DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations, and Variances on or before February 6, 2012.

ADDRESSES: You may submit your comments, identified by “docket number” on the subject line, by any of the following methods:

1. Electronic Mail: zzMSHA-comments@dol.gov. Include the docket number of the petition in the subject line of the message.

2. Facsimile: (202) 693-9441.

3. Regular Mail: MSHA, Office of Standards, Regulations, and Variances, 1100 Wilson Boulevard, Room 2350, Arlington, Virginia 22209-3939, Attention: Roslyn B. Fontaine, Acting Director, Office of Standards, Regulations, and Variances.

4. Hand-Delivery or Courier: MSHA, Office of Standards, Regulations, and Variances, 1100 Wilson Boulevard, Room 2350, Arlington, Virginia 22209-3939. Individuals who submit comments by hand-delivery are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at (202) 693-9447 (Voice), barron.barbara@dol.gov (Email), or (202) 693-9441 (Facsimile). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary of Labor determines that:

(1) An alternative method of achieving the result of such standard exists which will at all times guarantee no less than the same measure of protection afforded the miners of such mine by such standard; or

(2) That the application of such standard to such mine will result in a diminution of safety to the miners in such mine.

In addition, the regulations at 30 CFR 44.10 and 44.11 establish the requirements and procedures for filing petitions for modification.

II. Petitions for Modification

Docket Numbers: M-2011-038-C and M-2011-039-C.

Petitioner: Midland Trail Energy, LLC, 42 Rensford Star Route, Charleston, West Virginia 25306.

Mines: Campbells Creek No. 7 Mine, MSHA I.D. No. 46-09107, and Blue Creek No. 1 Mine, MSHA I.D. No. 46-09297, 3301 Point Lick Road, Charleston, West Virginia 25306, located in Kanawha County, West Virginia.

Regulation Affected: 30 CFR 75.503 (Permissible electric face equipment; maintenance).

Modification Request: The petitioner requests a modification of the existing standard to permit the use of 900-feet-maximum length cables to supply power to its shuttle cars, roof bolters, and mobile roof supports at the Campbells Creek No. 7 Mine and Blue Creek No. 1 Mine. The petitioner states that:

(1) The maximum length trailing cables supplying the 575-volt shuttle cars, 480-volt roof bolters, and 480-volt mobile roof supports will not exceed 900 feet.

(2) The trailing cable(s) for the shuttle car(s) and the roof bolter(s) will not be smaller than No. 2 American Wire Gauge (AWG), and the trailing cable(s) for mobile roof support(s) will not be smaller than No. 4 AWG.

(3) All circuit breakers used to protect the No. 2 AWG trailing cables that exceed 700 feet in length will have instantaneous trip units calibrated to trip at 800 amperes. The trip setting of these circuit breakers will be sealed and will have permanent, legible labels. The labels will identify the circuit breaker as being a specially calibrated circuit breaker suitable for protecting No. 2 AWG cables. This label will be maintained legible.

(4) All circuit breakers used to protect No. 4 AWG trailing cables that exceed 600 feet in length will have instantaneous trip units calibrated to trip at 500 amperes. The trip setting of these circuit breakers will be sealed and will have permanent, legible labels. The labels will identify the circuit breakers as being a specially calibrated circuit breaker and suitable for protecting No. 4 AWG cables. This label will be maintained legible.

(5) All components that provide short circuit protection for the No. 4 AWG and No. 2 AWG cables will have an interruption rating in accordance with the maximum available fault current. A short-circuit study, available as part of the petition, indicates the maximum fault current available on the coal producing section. Circuit breakers of sufficient interrupting rating will be provided in accordance with the study.

(6) Replacement circuit breakers and/or instantaneous trip units used to protect No. 2 AWG cables will be calibrated to trip at 800 amperes. This setting will be sealed.

(7) Replacement circuit breakers and/or instantaneous trip units used to protect No. 4 AWG cables will be calibrated to trip at 500 amperes. This setting will be sealed.

(8) Any trailing cable that is not in safe operating condition will be removed from service immediately and repaired or replaced.

(9) Each splice or repair in the trailing cable to the shuttle cars, roof bolters, and mobile roof supports will be made in a workmanlike manner and in accordance with the instructions of the manufacturer of the splice or repair materials. The outer jacket of each splice or repair will be sealed or made with material that has been accepted by MSHA as flame-resistant.

(10) If the mining methods or operating procedures cause or contribute to the damage of any trailing cable, the cable will be removed from service immediately and repaired or replaced, and additional precautions will be taken to ensure that in the future the cable is protected and maintained in safe operating condition.

(11) Permanent warning labels will be installed and maintained on the cover(s) of the power center identifying the location of each sealed short-circuit protection device. These labels will warn miners not to change or alter the sealed short-circuit settings.

(12) The haulage roads, locations of trailing cable anchoring points, and locations of the belt tailpiece or feeder will be arranged to:

(a) Prevent the shuttle cars from running over their trailing cables.

(b) Minimize the need for secondary (temporary) trailing cable anchoring points.

(c) Minimize back spooling.

(13) The alternative method will not be implemented until all miners designated to examine the integrity of the seals and verify the short-circuit settings have received task training in the proper procedures for examining trailing cables for defects and damage.

(14) Within 60 days after this proposed decision and order becomes final, the proposed revisions for the petitioner's approved 30 CFR part 48 training plan will be submitted to the District Manager. The revisions will specify task training for miners designated to verify that the short-circuit settings of the circuit interrupting device(s) that protect the affected trailing cables do not exceed the specified setting(s). The training plan will include the following:

(a) The hazards of setting the short-circuit interrupting device(s) too high to adequately protect the trailing cables.

(b) How to verify that the circuit interrupting device(s) protecting the trailing cable(s) are properly set and maintained.

(c) Mining methods and operating procedures that will protect the trailing cable(s) against mechanical damage.

(d) Proper procedures for examining the affected trailing cable(s) to ensure that the cables are in safe operating condition.

The petitioner further states that procedures specified in 30 CFR 48.3 for proposed revisions to already approved training plans will apply.

The petitioner asserts that the alternative method will provide at all times a measure of protection for the miners equal to or greater than that of the existing standard.

Dated: December 30, 2011.
Patricia W. Silvey,
Certifying Officer.

[FR Doc. 2011-33861 Filed 1-5-12; 8:45 am]

BILLING CODE 4510-43-P